DEPARTMENT OF COMMERCE

Bureau of the Census

[Docket Number 070306047-8100-02]

Final Procedures for Participation in the 2010 Decennial Census Local Update of Census Addresses Program

AGENCY: Bureau of the Census, Department of Commerce.

ACTION: Final notice.

SUMMARY: This notice documents the final procedures for the 2010 Decennial Census Local Update of Census Addresses (LUCA) program, as well as the comments received on the proposed procedures published in the June 22, 2007, Federal Register notice (72 FR 34434). The Bureau of the Census (Census Bureau) is using the LUCA program to help develop the housing unit and group quarters (e.g., college dormitory, nursing home, correctional facility, etc.) address information that it will need to conduct the 2010 Decennial Census LUCA program. The LUCA program is offered to tribal, state, and local units of general-purpose governments, such as cities and townships, and the District of Columbia and Puerto Rico (or their designated representatives), in areas where the Census Bureau performs a precensus address canvassing operation. Participants have three options for reviewing and annotating the 2010 Decennial Census LUCA program materials.

A future notice will announce the establishment, outside the Department of Commerce (DOC), of the Census Address List Appeals process that will be established by the Office of Management and Budget (OMB) for the 2010 Census LUCA program. The Census Bureau and the OMB will publish a separate Federal Register notice seeking comments on this Appeals process at a later date.

DATES: These LUCA program procedures, which reflect revisions based on public comment following publication of draft procedures, will go into effect on March 7, 2008.

ADDRESSES: Please send any correspondence about the 2010 Census LUCA program procedures to Ms. Teresa Angueira, Associate Director for Decennial Census, U.S. Census Bureau, Washington, DC 20233.

FOR FURTHER INFORMATION CONTACT: For information about the Census Bureau's 2010 Census LUCA program, contact Ms. Linda M. Franz, Assistant Division Chief for Geographic Partnership Programs, Geography Division, U.S. Census Bureau, Washington, DC 20233-7400; telephone (301) 763-9061; fax (301) 763-4710; or by e-mail at linda.m.franz@census.gov.

SUPPLEMENTARY INFORMATION:

The Census Address List Improvement Act of 1994

The Census Address List Improvement Act of 1994 (Pub. L. 103-430, 108 Stat. 4393 (1994)) mandates the establishment of a program to be used by the Census Bureau for developing the decennial census address list, and address lists for other censuses and surveys conducted by the Census Bureau. The Act's provisions direct the Secretary of Commerce to: (1) Publish standards defining the content and structure of address information that tribal, state, and local governments may submit to be used for developing a national address list; (2) develop and publish a timetable for the Census Bureau to receive, review, and respond to submissions; and (3) provide a response to the submissions regarding the Census Bureau's determination for each address. The Act provides further that OMB's Administrator of the Office of Information and Regulatory Affairs, acting through the Chief Statistician and in consultation with the Census Bureau, shall develop a process for tribal, state, and local governments to appeal determinations of the Census Bureau. The Act also directs the U.S. Postal Service to provide the Secretary of Commerce with address information, as appropriate, for use by the Census Bureau.

The Act authorizes the Census Bureau to provide designated officials of tribal, state, and local governments with access to census addresses information. Prior to Census 2000, the Census Bureau was limited to providing block summary totals of addresses to tribal, state, and local governments. Census 2000 marked the first decennial census where tribal and local governments were able to review the census address list.

Summary of Comments Received in Response to the Proposed Program

On June 22, 2007, the Census Bureau issued a Federal Register notice (72 FR 34434) requesting comments on the proposed procedures for developing the specific components of the 2010 Decennial Census LUCA program. Three comments were received on the proposal during the comment period. After the comment period closed, other communications that did not cite the notice of proposed procedures, but raised concerns about aspects of the proposed LUCA program, were received and considered by the Census Bureau. This notice issues final procedures that incorporate changes made as a result of comments received.

A summary of the public comments and the Census Bureau's response are provided below.

Comment 1. One commenter suggested that the Census Bureau should not have a program to check the address list that is separate from the census itself. The Census Bureau did not adopt this suggestion because doing so would not allow it to meet the statutory requirement to conduct an address list review by tribal and local governments, including an appeals process to be completed prior to Census Day.

Comment 2. Another commenter suggested that LUCA program materials reflecting the results of the Master Address File/Topologically Integrated Geographic Encoding and Referencing Accuracy Improvement Program (MTAIP) be made available by November 2007. The Census Bureau did not adopt this suggestion because the contract for the MTAIP calls for an April 2008 completion and cannot be further accelerated because of contractor capacity and availability of source materials.

Comment 3. A commenter indicated that the notice did not specify which addresses would be eligible for appeal. The Census Bureau has not yet determined which addresses would be eligible for appeal. As stated in the notice of June 22, 2007, the Census Bureau and OMB will address this subject and will jointly solicit public comments in a future Federal Register notice.

Comment 4. A comment was received that expressed concern about no special LUCA procedures having been specified for Gulf Coast hurricane-affected areas. The Census Bureau, as part of its planning process, considered this issue in its discussions with officials in the Gulf Coast area (who offered no suggestions for modifications of the LUCA program for their area). Beyond scheduling LUCA outreach and training earlier for the Gulf Coast areas, the Census Bureau determined that no further special LUCA procedures were required, as these procedures provided adequate opportunities for these areas to participate. However, the Census Bureau is considering the adoption of special procedures for the address updating operations planned for the Gulf Coast areas.

Comment 5. Another comment suggested that the Census Bureau needed a system for tracking the return of confidential materials. Such a system is already part of the LUCA program plan.

Comment 6. A commenter requested more advanced LUCA outreach, especially through state officials, as well as separate promotional and technical LUCA workshops. This comment was based on the commenter's observations of the 2008 Census Dress Rehearsal of the LUCA program. The Census Bureau acknowledges the need for more outreach and had already taken steps to incorporate workshops/meetings/outreach events for the 2010 LUCA program prior to receiving this comment.

Comment 7. A comment indicated that there needs to be further testing of the Census Bureau-provided Geographic Information System (GIS) tool available to LUCA participants. The Census Bureau agrees that further testing of the GIS tool was necessary and conducted additional user testing in cooperation with local officials.

Comment 8. A commenter expressed support for a prior U.S.Government Accountability Office recommendation that the Census Bureau collect data from governments that register for the LUCA program, but neither provided address list changes nor stated why no changes were provided. The Census Bureau agrees that this information would be useful and will request it from governments that register for the LUCA program but do not provide updates.

After the close of the comment period, the Census Bureau received a number of comments objecting to the suppression of all addresses contained within the boundary of any federally-recognized American Indian reservation or off-reservation trust land from the address lists provided to other governments, the boundaries of which overlap or are encompassed by the reservation boundaries. As a result, the Census Bureau has revised the LUCA program to permit access to census address lists to all local units of general purpose government without regard to boundary or location. These addresses were to appear only on LUCA materials provided to participating tribal governments. This was premised upon the Census Bureau's recognition of the unique government-to-government relationship between the federal government and federally-recognized tribal governments. While the proposed procedures would not have provided non-tribal local governments within a reservation with the addresses for their jurisdiction, the Census Bureau recognized the need for accurate data and encouraged tribal governments to coordinate their work with non-tribal governments in overlapping areas to ensure that all addresses are identified for census purposes. If a tribal government chose not to participate in the LUCA program, the Census Bureau encouraged the tribe to delegate authority to review the address list to a state, county, or local government.

We note that the LUCA program is not, and never has been, intended to imply, directly or indirectly, sovereignty, jurisdiction, or other oversight by one governmental entity over another. Any contrary understanding of the purpose of this program is not intended by the Census Bureau. The statute contemplates that the Secretary of Commerce will provide officials of all local units of general purpose government access to census address information. The statute neither addresses issues of sovereignty nor authorizes the Census Bureau to determine issues of sovereignty between federally-recognized Indian reservations and other local units government, including those located wholly or partly with the boundaries of federally-recognized Indian reservations. Thus, access to addresses must be granted without consideration of sovereignty issues.

Therefore, understanding the concerns raised in comments received and to ensure compliance with the statutory obligation to provide address lists for review to local units of general purpose government and acquisition of the most accurate address lists possible, the Census Bureau determined that it would invite local governments within tribal areas to participate fully in the LUCA program. This change does not in any way affect the ability of tribal governments to participate in the LUCA program. However, it should advance inclusiveness and further the Census Bureau's goal of developing the most accurate address lists possible.

The 2010 Census LUCA Program Process

The Census Bureau is conducting the 2010 Census LUCA program to help develop the address information it needs to conduct the 2010 Census. The purpose of the 2010 Census LUCA program is to ensure that the Census Bureau develops, with the cooperation of tribal, state, and local units of general purpose governments (or their designated representatives) in areas for which the Census Bureau is developing its address list in advance of the 2010 Census, the most accurate address list possible, in order to undertake the most accurate census possible. This vital activity ensures not only accurate representation in the U.S. House of Representatives, but also the accurate distribution of over $300 billion in federal funds to tribal, state, and local governments. The 2010 Census LUCA program is available to tribal, state, and local governments (or their designated representatives) in areas for which the Census Bureau is developing its address list in advance of the 2010 Census.

Jurisdictions or parts of jurisdictions with special enumeration needs are not eligible to receive 2010 Census LUCA materials. The Census Bureau will not prepare advance address lists for jurisdictions or parts of jurisdictions for certain situations. These areas may include remote, sparsely populated areas, and/or resort areas. For such areas, where practicable, the Census Bureau will provide the opportunity for a local government designee to check the address list and provide information to assist the Census Bureau in locating suspected missing living quarters in a single field revisit prior to the end of the enumeration. This activity is not part of the LUCA program and does not result in feedback to any government entity, nor does it include an appeals process.

Beginning in January 2007, the Census Bureau mailed pre-invitation letters and LUCA information booklets (called the Advance Notification package) to tribal, state, and local governments eligible to participate in the nationwide 2010 Census LUCA program. The purpose of the Advance Notification package was to provide eligible governments with samples of the LUCA program materials and lead time to begin planning their strategy for participation in the 2010 Census LUCA program.

In August 2007, the Census Bureau mailed the LUCA invitation letters and registration materials to eligible governments, formally inviting them to participate in the 2010 Census LUCA program. The Census Bureau conducted a telephone follow-up to nonresponding governments, followed by a final reminder postcard in November 2007 to all nonresponding governments.

The 2010 Census LUCA program differs from the Census 2000 LUCA program. One notable change is that, for the first time, states are invited to participate and review the Census Bureau's address list for, at each state's option, the entire state, selected substate areas, and/or selected address types.

Using information gathered from various surveys and evaluations of the Census 2000 LUCA program, the Census Bureau also has streamlined the 2010 Census LUCA program. For the 2010 Census LUCA program, all eligible LUCA participants will review their entire address list at one time, instead of in phases based on address type as was done for the Census 2000 LUCA program. Tribal, state, and local governments that participate in the 2010 Census LUCA program will have 120 calendar days from the time they receive their LUCA materials to conduct their review of the census address list and maps, subject to the registration deadline described below.

The Census Bureau accepted 2010 Census LUCA registration packages from tribal, state, and local governments until December 31, 2007. The earlier Federal Register notice on the LUCA program (June 22, 2007; 72 FR 34434) required tribal, state, and local governments to return their completed registration package to the Census Bureau by November 19, 2007, to be assured the full 120-day review period. Governments that registered by that date will have 120 days from when they received their materials to review them and submit updates to the Census Bureau. Participants who registered between November 19, 2007, and December 31, 2007, will have 120 days from when they received their materials, or until April 4, 2008, whichever comes first. This schedule will permit the Census Bureau to review and process the submissions in time for a nationwide field check called the Address Canvassing operation.

The Address Canvassing operation is planned to begin in the spring of 2009 to verify the census address list, including the qualifying updates supplied by 2010 Census LUCA participants. During this operation, Census Bureau field staff will add, delete, and correct entries on the census address list and make needed corrections to the census maps. Census Bureau feedback to LUCA participants will be based on the results of Address Canvassing.

For the 2010 Census LUCA program, participants could choose from one of three options described below. (Puerto Rico participants were restricted to Option 1 because of address-matching complexities unique to Puerto Rico.) Participants received review materials in either paper or computer-readable formats, or are using Census Bureau-supplied software to update their jurisdiction's map features and address list. Jurisdictions with more than 6,000 addresses are required to participate using a computer-readable address list.

Section 3 of the Census Address List Improvement Act of 1994 requires the Administrator of the Office of Information and Regulatory Affairs at the OMB, in consultation with the Census Bureau, to develop an Appeals process outside the DOC to resolve any disagreements that may remain after participating governments receive the Census Bureau's Detailed Feedback/Final Determination materials. The Census Bureau and OMB will jointly publish, at a later date, a separate Federal Register notice describing the Appeals process.

Described below are the three participation options for the 2010 Census LUCA program.

Option 1—Title 13 Full Address List Review

The Full Address List Review option requires that the participant sign the Confidentiality Agreement in accordance with Title 13, United States Code. Jurisdictions selecting this option should first determine that they have the time and resources to review and comment on the 2010 Census LUCA Address List. This option is also the only option that governments could choose if their jurisdiction contains only noncity-style addresses (e.g., rural route/box number, post office box, general delivery, descriptive addresses), because it is the only option that allows the participant to challenge the count of addresses in a census block, as described below.

The Full Address List Review participants received the 2010 Census Address List, the Address Count List (a count of addresses within each census block), and maps or digital shape files of their jurisdiction. Participants who selected this option must have the means to secure the census address list and maps or shape files containing Title 13 information, according to the 2010 LUCA Security Guidelines (included in the invitation package and on the Web). The 2010 Census Address List and the Address Count List were offered as a paper or computer-readable product. The Census Bureau maps were available in paper format for tribal and local governments (not state) or shape files for use in their GIS. Alternatively, the participant could choose to use the Census Bureau-supplied software that combines the census address list and shape files within an easy-to-use GIS tool. Details regarding this software were contained within the promotional materials that eligible tribal, state, and local governments have been sent and were covered in the training workshops held in summer/fall of 2007.

Although the 2010 Census Address List contains city-style (house number and street name, used for mail delivery or E-911), as well as noncity-style addresses, participants can only add and/or provide updates (including deletions) for city-style addresses. Each address added by a participant must be “geocoded,” that is, associated with a census tract and census block number identifying its location. The census tract and census block numbers appear on the Census Bureau-supplied maps, digital shape files, and the Census Bureau-supplied GIS software tool.

The Census Bureau limits address updates to city-style addresses because noncity-style addresses are not usually locational and are subject to change. However, participants may challenge the address count for a census block on the Address Count List regardless of the type of addresses it contains. Participants do this by providing what they believe is the correct number of addresses for the census block. Participants cannot provide both updates for individual addresses on the 2010 Census Address List and challenge the count of addresses on the Address Count List for the same census block.

As is true for all three options, the LUCA participant may make updates and/or corrections to the features and boundaries on the Census Bureau maps (with one exception: State participants cannot update boundaries unless they are the designated reviewer for a county, township, city, town, or reservation). The Census Bureau maps were available to participants in paper format, or as digital shape files for use in their GIS. Alternatively, participants could choose to use the Census Bureau-supplied software that combines the Address List, the Address Count List, and shape files within an easy-to-use GIS tool.

A nationwide field check, called the Address Canvassing operation, is planned to begin in the spring of 2009 to verify the census address list, including the qualifying updates (those that are timely and consistent with Census Bureau instructions) supplied by 2010 Census LUCA participants. During this operation, Census Bureau field staff will add, delete, and correct entries on the confidential census address list, and make needed corrections to the census maps.

Option 2—Title 13 Local Address List Submission

The Title 13 Local Address List Submission option requires that the participant sign the Confidentiality Agreement in accordance with Title 13, United States Code (U.S.C.). Participants who selected this option must have the means to secure the census address list and maps or shape files containing Title 13 information, according to the 2010 LUCA Security Guidelines (included in the invitation package and on the Web). Title 13 Local Address List Submission is a new 2010 Census LUCA option intended for those participants who may not have the time or resources to update the 2010 Census LUCA Address List, but who wish to submit their local address list for Census Bureau use. For Option 2, the 2010 Census Address List and the Address Count List were available only as computer-readable products. The Census Bureau maps were made available to participants in paper format or as shape files for use with their GIS. Alternatively, participants could select the Census Bureau-supplied software that combines the census Address List, Address Count List, and shape files within an easy-to-use GIS tool.

Option 2 LUCA participants received the 2010 Census LUCA Address List containing city-style and noncity-style addresses and the Address Count List. These materials are to be used for reference purposes only. Option 2 LUCA participants must submit their local city-style address list in a Census Bureau-defined computer-readable format. The Census Bureau cannot accept a LUCA participant's local address list in paper format and cannot accept computer-readable local address lists containing noncity-style addresses. Each address submitted by a participant must be “geocoded,” that is, associated with a census tract and census block number identifying its location. The census tract and census block numbers appear on the Census Bureau-supplied maps, digital shape files, and the Census Bureau-supplied GIS software tool.

As is true for all three options, the LUCA participant may make updates and/or corrections to the features and boundaries on the Census Bureau maps (with one exception: State participants cannot update boundaries unless they are the designated reviewer for a county, township, city, town, or reservation). The Census Bureau maps were made available to participants in paper format or as shape files for use in their GIS. Alternatively, participants could choose to use the Census Bureau-supplied software that combines the Address List, Address Count List, and shape files within an easy-to-use GIS tool.

A nationwide field check, called the Address Canvassing operation, is planned to begin in the spring of 2009 to verify the census address list, including the qualifying updates supplied by 2010 Census LUCA participants. During this operation, Census Bureau field staff will add, delete, and correct entries on the census address list and make needed corrections to the census maps.

Option 3—Non-Title 13 Local Address List Submission

Non-Title 13 Local Address List Submission is a new LUCA option for the 2010 Census. It is intended for those participants who may not have the time or resources to update the 2010 Census LUCA Address List and/or are unable to meet Title 13 security requirements, but who wish to submit their local address list for Census Bureau use. The Non-Title 13 Local Address List Submission option does not require participants to sign the Confidentiality Agreement, since they will not receive Title 13 data. Instead, participants received only the 2010 Census LUCA Address Count List in computer-readable format, which they may use for reference purposes only. The Census Bureau maps were made available to participants in paper format or as shape files for use in their GIS. Alternatively, participants could choose to use the Census Bureau-supplied software that combines the census Address Count List and shape files within an easy-to-use GIS tool.

Option 3 LUCA participants must submit their local city-style address list in a Census Bureau-defined, computer-readable format. The Census Bureau cannot accept Option 3 LUCA local address lists in paper format and cannot accept noncity-style addresses contained in a computer-readable local address list. Each address submitted by a participant must be “geocoded,” (i.e., associated with a census tract and census block number identifying its location). The census tract and census block numbers appear on the Census Bureau-supplied maps, digital shape files, and the Census Bureau-supplied GIS software tool.

As is true for all three options, the LUCA participant may make updates and/or corrections to the features and boundaries on the Census Bureau maps (with one exception: State participants cannot update boundaries unless they are the designated reviewer for a county, township, city, town, or reservation). The Census Bureau maps were made available to participants in paper format or as shape files for use in their GIS. Alternatively, participants could choose to use the Census Bureau-supplied software that combines the Address Count List and shape files within an easy-to-use GIS tool.

A nationwide field check, called the Address Canvassing operation, is planned to begin in the spring of 2009 to verify the census address list, including the qualifying updates supplied by 2010 Census LUCA participants. During this operation, Census Bureau field staff will add, delete, and correct entries on the census address list and make needed corrections to the census maps.

LUCA Feedback Process for Option 1—Title 13 Full Address List Review

The Census Bureau will review and computer-match each participant-submitted address and provisionally update the census address list with the qualifying submissions, and then verify the addresses during the Address Canvassing operation. The Address Canvassing operation will ensure that all the addresses exist and that they are in the correct census block.

The Census Bureau will provide 2010 Census LUCA Feedback materials to each tribal, state, and local government that submitted an acceptable list of city-style addresses. The Census Bureau will provide the 2010 Census LUCA Feedback materials on a flow basis to qualifying jurisdictions beginning in the fall of 2009, after completion of the Address Canvassing operation.

The 2010 Census LUCA Feedback materials will document which 2010 Census LUCA address submissions the Census Bureau could and could not verify in the Address Canvassing operation. The 2010 Census LUCA Feedback materials, which will be provided in the media originally requested by the participant, include:

(1) A 2010 Census LUCA Feedback Report covering the specific address updates submitted by the participant and actions taken on those addresses by the Census Bureau.

(2) An updated 2010 Census LUCA Feedback Address List that contains all of The census addresses verified by the 2010 Census Address Canvassing operation with the participating jurisdiction's boundary.

(3) An updated Address Count List documenting the number of housing unit and group quarters addresses in each census block within the participating jurisdiction's boundary.

(4) An updated Address Count List displaying just the blocks challenged by participants. This list will document the block count provided by the participant and the final block count from the Address Canvassing operation.

(5) A set of updated Census Bureau maps or shape files covering the participating jurisdiction.

If participants disagree with the 2010 Census LUCA Address List or Address Count Feedback materials, they may file an appeal through the process that will be established by OMB outside DOC.

LUCA Feedback Process for Option 2—Title 13 Local Address List Submission

The Census Bureau will review and computer-match each participant-submitted address and provisionally update the census address list with the qualifying submissions, and then verify the addresses during the Address Canvassing operation. The Address Canvassing operation will ensure that all the addresses exist and are in the correct census block.

The Census Bureau will provide 2010 Census LUCA Feedback materials to each tribal, state, and local government that submitted an acceptable list of city-style addresses. The Census Bureau will provide the 2010 Census LUCA Feedback materials on a flow basis to qualifying jurisdictions beginning in the fall of 2009, after completion of the Address Canvassing operation.

The 2010 Census LUCA Feedback materials will document which 2010 Census LUCA address submissions the Census Bureau verified in the field and which ones it could not verify. The 2010 Census LUCA Feedback materials, which will be provided in the media originally requested by the participant, include:

(1) A 2010 Census LUCA Feedback Report covering the specific address updates submitted by the participant and actions taken on those addresses by the Census Bureau.

(2) An updated 2010 Census LUCA Address List that contains all of the census addresses verified by the 2010 Census Address Canvassing operation within the participating jurisdiction's boundary.

(3) An updated Address Count List documenting the number of housing unit and group quarters addresses in each census block within the participating jurisdiction's boundary.

(4) A set of updated Census Bureau maps or shape files covering the participating jurisdiction.

If participants disagree with the 2010 Census LUCA Feedback on their submitted address list, they may file an appeal through the process that will be established by OMB outside DOC.

LUCA Feedback Process for Option 3—Non-Title 13 Local Address List Submission

The Census Bureau will review and computer-match each participant-submitted address and provisionally update the census address list with the qualifying submissions, and then verify the addresses during the Address Canvassing operation. The Address Canvassing operation will ensure that all addresses exist and that they are in the correct census block.

The Census Bureau will provide 2010 Census LUCA Feedback materials to each tribal, state, and local government that submitted an acceptable list of city-style addresses. The Census Bureau will provide the 2010 Census LUCA Feedback materials on a flow basis to qualifying jurisdictions beginning in the fall of 2009 after completion of the Address Canvassing operation.

The 2010 Census LUCA Feedback materials, which will be provided in the media originally requested by the participant, include:

(1) An updated Address Count List documenting the number of addresses in each census block within the jurisdiction.

(2) A set of updated Census Bureau maps or shape files for the jurisdiction.

Option 3 participants will not be able to file an appeal since their Non-Title 13 status means they will not receive the detailed address level feedback necessary for an appeal. For Option 3 participants, the Census Bureau's 2010 Census LUCA program will be officially completed at the time the Census Bureau provides the LUCA Feedback materials to the participant.

Executive Order 12866

This notice has been determined to not be significant under Executive Order 12866.

Paperwork Reduction Act

Notwithstanding any other provision of law, no person is required to respond to, nor shall a person be subject to a penalty for failure to comply with, a collection of information subject to the requirements of the Paperwork Reduction Act (PRA) unless that collection of information displays a current, valid Office of Management and Budget (OMB) control number. In accordance with the PRA, 44 U.S.C., Chapter 35, the Census Bureau requested, and the OMB granted its clearance for the information collection requirements for this program on August 6, 2007 (OMB Control Number 0607-0795, expires on February 29, 2008). The Census Bureau's request for an extension of this clearance until September 30, 2008 was sent to the OMB on January 29, 2008.

Dated: March 3, 2008.
Steve H. Murdock,
Director, Bureau of the Census.

[FR Doc. E8-4457 Filed 3-6-08; 8:45 am]

BILLING CODE 3510-07-P